NUCLEAR REGULATORY COMMISSION

[NRC-2016-0119]

Early Site Permit Application; Tennessee Valley Authority; Clinch River Nuclear Site; Correction

AGENCY: Nuclear Regulatory Commission.

ACTION: Draft environmental impact statement; public meetings and request for comment; correction.

SUMMARY: The U.S. Nuclear Regulatory Commission (NRC) is correcting a notice that was published in the Federal Register (FR) on April 26, 2018, regarding the issuance of a draft environmental impact statement (DEIS) that is part of the review of the application for the early site permit, and to provide the public with an opportunity to comment on the DEIS process as defined in the regulations. This action is necessary to correct the end date of the comment period from July 10, 2018 to July 13, 2018.

DATES: The document published at 83 FR 18354 on April 26, 2018, is corrected as of May 30, 2018.

FOR FURTHER INFORMATION CONTACT: Tamsen Dozier, Office of New Reactors, U.S. Nuclear Regulatory Commission, Washington, DC 20555-0001; telephone: 301-415-2272, email: Tamsen.Dozier@nrc.gov.

SUPPLEMENTARY INFORMATION: In the Federal Register of April 26, 2018 (83 FR 18354), in FR Doc. 2018-08714, on page 18355, in the first column, in the DATES section, correct the comment period due date from “July 10, 2018” to “July 13, 2018.”

Dated at Rockville, Maryland, this 24th day of May, 2018.
For the Nuclear Regulatory Commission.
Andrew C. Campbell,
Acting Director, Division of New Reactor Licensing, Office of New Reactors.

[FR Doc. 2018-11550 Filed 5-29-18; 8:45 am]

BILLING CODE 7590-01-P